DEPARTMENT OF JUSTICE

Office of Justice Programs

[OJP (OVC) Docket No. 1559]

Establishment of the SANE/SART AI/AN Initiative Committee

AGENCY: Office for Victims of Crime, Justice.

ACTION: Notice of Establishment of Federal Advisory Committee.

SUMMARY: The National Coordination Committee on the Sexual Assault Nurse Examiner (SANE) Sexual Assault Response Team (SART) American Indian/Alaskan Native (AI/AN) Initiative (“SANE/SART AI/AN Initiative Committee” or “Committee”) is being established in accordance with the provisions of the Federal Advisory Committee Act (FACA), as amended, 5 U.S.C., App. 2. The SANE/SART AI/AN Initiative Committee will provide the Office for Victims of Crime, a component of the U.S. Department of Justice's Office of Justice Programs, with valuable advice about the complex issues that arise when AI/AN law enforcement agencies and their Federal, State and local counterparts attempt to coordinate a response to the victims of sexual assault. The Committee will also advise about the unique cultural issues faced by victims of sexual assault within the AI/AN community. The advice provided by the Committee will assist OVC in ensuring that its strategies, policies, and Initiative goals are responsive to the challenges faced by both those who respond to the victims of sexual assault within AI/AN communities and the victims themselves. The SANE/SART AI/AN Initiative Committee is necessary and in the public interest. The Committee's charter is subject to renewal and will expire two years from its filing. The Committee is continuing in nature, to remain functional until the Attorney General determines that all necessary duties have been performed.

FOR FURTHER INFORMATION CONTACT: Kathleen Gless, Designated Federal Officer (DFO) for the SANE/SART AI/AN Initiative Committee, Office for Victims of Crime, Office of Justice Programs, 810 7th Street, NW., Washington, DC 20531; Phone: (202) 307-5983 [Note: this is not a toll-free number].

Joye E. Frost,
Acting Director, Office for Victims of Crime.

[FR Doc. 2011-18597 Filed 7-21-11; 8:45 am]

BILLING CODE 4410-18-P